NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119)

Date and Time: October 29, 2019; 8:30 a.m.—5:00 p.m.

Place: Holiday Inn Alexandria—Carlyle, 2460 Eisenhower Avenue, Alexandria, VA 22314

To attend the meeting in person, all visitors must contact the Directorate for Education and Human Resources at least 48 hours prior to the meeting to arrange for a visitor's badge. All visitors must access NSF via the Visitor Center entry adjacent to the south building entrance on Eisenhower Avenue on the day of the meeting to receive a visitor's badge. It is suggested that visitors allow time to pass through security screening.

Type of Meeting: Open

Contact Person: Keaven M. Stevenson, National Science Foundation, 2415 Eisenhower Avenue, Room C11001, Alexandria, VA 22314; (703) 292-8600/kstevens@nsf.gov

Summary of Minutes: Minutes and meeting materials will be available on the EHR Advisory Committee website at http://www.nsf.gov/ehr/advisory.jsp or can be obtained from Dr. Nafeesa Owens, National Science Foundation, 2415 Eisenhower Ave., Room C11045, Alexandria, VA 22314; (703) 292-8600; nowens@nsf.gov.

Purpose of Meeting: To provide advice with respect to the Foundation's science, technology, engineering, and mathematics (STEM) education and human resources programming.

Agenda

Morning Sessions

• Remarks from the EHR Advisory Committee Chair and EHR Assistant Director

• Federal STEM Education 5-Year Strategic Plan

• NSF BIG IDEAS

• Revisiting EHR's Strategic Revisioning Report

Afternoon Sessions

• EHR AC Subcommittee Updates

• EHR Response to Graduate Education AC Subcommittee Report

• Discussion with Chief Operating Officer, F. Fleming Crim

Final agenda can be located at the EHR AC website: https://www.nsf.gov/ehr/advisory.jsp

Dated: September 13, 2019.
Crystal Robinson,
Committee Management Officer.

[FR Doc. 2019-20194 Filed 9-17-19; 8:45 am]

BILLING CODE 7555-01-P